DEPARTMENT OF THE INTERIOR

National Park Service

[NPS-AKR-ANIA-11187; 9924-PYS]

National Park Service Alaska Region's Subsistence Resource Commission Program; Open Public Meeting/Teleconference

AGENCY: National Park Service, Interior.

ACTION: Notice of meeting.

SUMMARY: The Aniakchak National Monument Subsistence Resource Commission (SRC) will meet to develop and continue work on National Park Service (NPS) subsistence program recommendations and other related subsistence management issues. The NPS SRC program is authorized under Title VIII, Section 808 of the Alaska National Interest Lands Conservation Act, Public Law 96-487, to operate in accordance with the provisions of the Federal Advisory Committee Act. The Federal Advisory Committee Act (Pub. L. 92-463, 86 Stat. 770) requires that public notice of this meeting be announced in the Federal Register.

Public Availability of Comments: The meeting/teleconference is open to the public and will have time allocated for public testimony. The public is welcome to present written or oral comments to the SRC. The meeting will be recorded and summary minutes will be available upon request from the park superintendent for public inspection approximately six weeks after each meeting. Before including your address, telephone number, email address, or other personal identifying information in your comment, you should be aware that your entire comment—including your personal identifying information—may be made publicly available at any time. While you can ask us in your comment to withhold your personal identifying information from public review, we cannot guarantee that we will be able to do so.

Aniakchak National Monument SRC Meeting Date and Location: The Aniakchak National Monument SRC meeting/teleconference will be held on Monday, October 1, 2012, from 1:30 p.m. to 4 p.m. or until business is completed at the NPS Aniakchak National Monument and Preserve Office in King Salmon, AK, at (907) 246-3305. Contact Mary McBurney, Subsistence Program Manager, at (907) 235-7891 or Clarence Summers, Subsistence Manager, at (907) 644-3603, at least 72 hours prior to the meeting to receive teleconference call-in numbers and information. Should a quorum not be available on October 1, 2012, the alternate meeting date is Tuesday, October 2, 2012, from 1:30 p.m. to 4 p.m.

For Further Information on SRC Meeting Contact: Mary McBurney, Subsistence Manager, at (907) 235-7891 or Clarence Summers, Subsistence Manager, NPS Alaska Regional Office, at (907) 644-3603. If you are interested in applying for SRC membership, contact the Superintendent at (907) 246-3305 or visit the Aniakchak National Monument Web site at: http://www.nps.gov/ania/contacts.htm.

Proposed SRC Meeting Agenda

The proposed meeting agenda for each meeting includes the following:

1. Call to order—Confirm Quorum.

2. Welcome and Introductions.

3. Administrative Announcements.

4. Approval of Agenda and Minutes.

5. SRC Member Reports on Subsistence Issues/Activities.

6. Public and Other Agency Comments.

7. Old Business.

8. NPS Staff Reports.

9. New Business.

10. Public and other Agency Comments.

11. Select Time and Location for Next Meeting.

12. Adjourn Meeting.

SRC meeting dates and locations may need to be changed based on inclement weather or exceptional circumstances.

Debora Cooper,
Associate Regional Director, Resources and Subsistence, Alaska Region.

[FR Doc. 2012-23880 Filed 9-27-12; 8:45 am]

BILLING CODE 4312-HE-P